DEPARTMENT OF COMMERCE

National Oceanic and Atmospheric Administration

RIN 0648-XE730

Pacific Island Fisheries; Public Meeting

AGENCY: National Marine Fisheries Service (NMFS), National Oceanic and Atmospheric Administration (NOAA), Commerce.

ACTION: Notice; public meeting.

SUMMARY: NMFS announces a Western Pacific Stock Assessment Review of the report “Stock Assessment of the Coral Reef Fishes of Hawaii, 2016.” The report contains single-species stock assessments for 28 species of reef-associated fish stocks around the main Hawaiian islands. A panel of three independent experts will review the stock assessment and report their findings.

DATES: See the SUPPLEMENTARY INFORMATION section for meeting dates and times.

ADDRESSES: The meeting will be held in Suite 1701, Finance Factors Building, 1164 Bishop St., Honolulu, HI 96813.

FOR FURTHER INFORMATION CONTACT: Matt Dunlap, NMFS Pacific Islands Regional Office, (808) 725-5177 or matthew.dunlap@noaa.gov.

SUPPLEMENTARY INFORMATION:

The meeting schedule and agenda are as follows (8:30 a.m.-5 p.m. every day):

Monday, August 29, 2016

• Introductions

• Background information

• Objectives and Terms of Reference

• Fishery Operation

• Management

• Presentation of stock assessments (Nadon)

Tuesday, August 30, 2016

• Presentation and review of stock assessments (Nadon and Panel)

Wednesday, August 31, 2016

• Continue review of stock assessments (Nadon and Panel)

Thursday, September 1, 2016

• Continue review of stock assessments

• Public comment period

• Panel discussion (closed)

Friday, September 2, 2016

• Panel discussions (morning, closed)

• Present results of review and recommendations (afternoon, open)

• Adjourn

The agenda order may change. The meeting will run as late as necessary to complete scheduled business. Although non-emergency issues that are not contained in this agenda may come up at the meeting for discussion, those issues may not be the subject of formal action during the meeting. Action will be restricted to those issues specifically listed in this notice, and any issues arising after publication of this notice that require emergency action under section 305(c) of the Magnuson-Stevens Fishery Conservation and Management Act, provided the public has been notified of the intent to take final action to address the emergency.

Special Accommodations

This meeting is physically accessible to people with disabilities. Make direct requests for sign language interpretation or other auxiliary aids to Matt Dunlap, (808) 725-5177 or matthew.dunlap@noaa.gov, at least 5 days prior to the meeting date.

Authority: 16 U.S.C. 1801 et seq.

Dated: August 9, 2016.
Emily H. Menashes,
Acting Director, Office of Sustainable Fisheries, National Marine Fisheries Service.

[FR Doc. 2016-19253 Filed 8-11-16; 8:45 am]

BILLING CODE 3510-22-P